INTERNATIONAL TRADE COMMISSION

[Investigation Nos. 731-TA-308-310 and 520-521 (Third Review)]

Carbon Steel Butt-Weld Pipe Fittings From Brazil, China, Japan, Taiwan, and Thailand

Determinations

On the basis of the record ¹ developed in the subject five-year reviews, the United States International Trade Commission (Commission) determines, pursuant to section 751(c) of the Tariff Act of 1930 (19 U.S.C. 1675(c)), that revocation of the antidumping duty orders on carbon steel butt-weld pipe fittings from Brazil, China, Japan, Taiwan, and Thailand would be likely to lead to continuation or recurrence of material injury to an industry in the United States within a reasonably foreseeable time.

¹ The record is defined in sec. 207.2(f) of the Commission's Rules of Practice and Procedure (19 CFR 207.2(f)).

Background

The Commission instituted these reviews on October 1, 2010 (75 F.R. 60814) and determined on January 4, 2011 that it would conduct expedited reviews (76 FR 5205).

The Commission transmitted its determinations in these reviews to the Secretary of Commerce on April 4, 2011. The views of the Commission are contained in USITC Publication 4222 (April 2011), entitled Carbon Steel Butt-Weld Pipe Fittings from Brazil, China, Japan, Taiwan, and Thailand: Investigation Nos. 731-TA-308-310 and 520-521 (Third Review).

By order of the Commission.
Issued: April 4, 2011.
James Holbein,
Acting Secretary to the Commission.

[FR Doc. 2011-8354 Filed 4-7-11; 8:45 am]

BILLING CODE P